DEPARTMENT OF TRANSPORTATION

Office of the Secretary

Notice of Funding Availability for the Small Business Transportation Resource Center Program

AGENCY: Department of Transportation (DOT), Office of the Secretary of Transportation (OST), Office of Small and Disadvantaged Business Utilization (OSDBU).

ACTION: Notice of Funding Availability; Extension of closing and award dates.

SUMMARY: This action extends the closing and award dates for a Notice of Funding Availability for the Small Business Transportation Resource Center in the Mid-Atlantic Region that was published on July 20, 2012, 77 FR 42790. USDOT OSDBU is extending the closing date to allow eligible entities time to adequately submit a proposal.

DATES: The submission period for the Notice of Funding Availability published on July 20, 2012 closing on September 3, 2012 is extended until September 17, 2012, 5 p.m. Eastern Standard Time. Also, the notice of award for the competed region on or before August 17, 2012 is extended until October 1, 2012.

ADDRESSES: Proposals must be electronically submitted to OSDBU via email at SBTRC@dot.gov.

FOR FURTHER INFORMATION CONTACT: For further information concerning this notice, contact Ms. Patricia Martin, U.S. Department of Transportation, Office of Small and Disadvantaged Business Utilization, 1200 New Jersey Avenue SE., W56-462, Washington, DC 20590. Telephone: 1-800 532 1169. Email: patricia.martin@dot.gov.

SUPPLEMENTARY INFORMATION: In the July 20, 2012 document (Notice No. USDOT-OST-OSDBU-SBTRC2012-11; Docket Number: DOT-OST-2009-0092), the Department of Transportation (DOT), Office of the Secretary (OST), Office of Small and Disadvantaged Business Utilization (OSDBU) announces the opportunity for; (1) business centered community-based organizations; (2) transportation-related trade associations; (3) colleges and universities; (4) community colleges or; (5) chambers of commerce, registered with the Internal Revenue Service as 501 C(6) or 501 C(3) tax-exempt organizations, to compete for participation in OSDBU's Small Business Transportation Resource Center (SBTRC) program in the Mid-Atlantic Region.

Issued in Washington, DC, on August 15, 2012.
Brandon Neal,
Director, Office of Small and Disadvantaged Business Utilization,Office of the Secretary, U.S. Department of Transportation.

[FR Doc. 2012-20846 Filed 8-23-12; 8:45 am]

BILLING CODE 4910-9X-P